DEPARTMENT OF HEALTH AND HUMAN SERVICES

[Document Identifier: OS-0990-new]

Agency Information Collection Request; 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before December 9, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 264-0041, or PRA@HHS.GOV. When submitting comments or requesting information, please include the document identifier 0990-New-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Performance and Evaluation Measurement System (PEMS).

Type of Collection: New Data Collection.

OMB No. 0990-NEW.

Abstract: The U.S. Department of Health and Human Services (HHS) Office of Minority Health (OMH) is requesting OMB approval on a new information collection, Performance and Evaluation Measurement System (PEMS). The proposed information collection activity will allow OMH to collect grant management and performance data and disparity impact information for all OMH-funded projects. The clearance is needed to support data collection using Grant Solutions, a system that enables OMH to comply with Federal reporting requirements and monitor and evaluate performance by enabling the efficient collection of performance-oriented data tied to OMH-wide performance reporting needs. The ability to monitor and evaluate performance in this manner, and to work towards continuous program improvement are basic functions that OMH must be able to accomplish to carry out its mandate with the most effective and appropriate use of resources.

This information collection includes two new web-based data collection tools:

• OMH Performance Progress Report

• Disparity Impact Statement

The OMH Performance Progress Report is a supplement to the Office of the Assistant Secretary for Health (OASH) periodic Performance Progress Report, and recipients will submit reports on a quarterly basis. Recipients will submit the Disparity Impact Statement once during the period of performance.

Likely Respondents: Members and staff from academia, community organizations, private non-profit organizations, local/state/federal government, and tribal government and services organizations including those who serve American Indian and Alaska Native and/or racial and ethnic minorities.

Estimated Annualized Burden Table
Type of respondent | Number of respondents | Number of responses per respondent | Average burden per response (in hours) | Total burden hours
OMH grant recipients—Disparity Impact Statement | 125 | 1 | 1 | 125
OMH grant recipients—OMH Performance Progress Report | 125 | 4 | 1.5 | 750
Total | 250 | 5 | 2.5 | 875

Sherrette A. Funn,
Paperwork Reduction Act Reports Clearance Officer, Office of the Secretary.

[FR Doc. 2024-26057 Filed 11-7-24; 8:45 am]

BILLING CODE P